Memorandum of November 13, 2002

Notification to Congress of Trade Negotiation

Memorandum for the United States Trade Representative

You are authorized and directed to notify the Congress, consistent with section 2104(a)(1) of the Trade Act of 2002 (19 U.S.C. 3804(a)(1)), of my intention to enter into negotations on a Free Trade Agreement with Australia.

You are also authorized and directed to publish this memorandum in the Federal Register.

B

THE WHITE HOUSE,

Washington, November 13, 2002.

[FR Doc. 02-29373

Filed 11-15-02; 8:45 am]

Billing code 3190-01-M